DEPARTMENT OF THE INTERIOR

Bureau of Land Management

[AZ-956-09-1420-00]

Arizona State Office; Notice of Filing of Plats of Survey

July 11, 2001.

1. The plats of survey of the following described land were officially filed in the Arizona State Office, Phoenix, Arizona on the dates indicated:

A plat representing the dependent resurvey of a portion of the subdivisional lines, the subdivision of sections 29, 30 and 32, the metes-and-bounds surveys of tracts 37 and 38 and a metes-and-bounds survey in section 32, Township 11 North, Range 12 East, of the Gila and Salt River Meridian, Arizona, accepted May 29, 2001 and officially filed June 1, 2001.

This plat was prepared at the request of the United States Forest Service.

A plat representing the survey of the Sixth Guide Meridian East, (west boundary), the east boundary, and the subdivisional lines, Township 36 North, Range 25 East, of the Gila and Salt River Meridian, Arizona, accepted June 11, 2001 and officially filed June 21, 2001.

This plat was prepared at the request of the Bureau of Indian Affairs, Navajo Regional Office.

A plat representing the survey of the east boundary and the subdivisional lines, Township 36 North, Range 26 East, of the Gila and Salt River Meridian, Arizona, accepted June 11, 2001 and officially filed June 21, 2001.

This plat was prepared at the request of the Bureau of Indian Affairs, Navajo Regional Office.

These plats will immediately become the basic records for describing the land for all authorized purposes. These plats have been placed in the open files and are available to the public for information only.

2. All inquiries relating to these lands should be sent to the Arizona State Office, Bureau of Land Management, 222 N. Central Avenue, P.O. Box 1552, Phoenix, Arizona 85001-1552.

Kenny D. Ravnikar,
Chief Cadastral Surveyor of Arizona.

[FR Doc. 01-19033 Filed 7-30-01; 8:45 am]

BILLING CODE 4310-32-P